DEPARTMENT OF THE INTERIOR

Fish and Wildlife Service

Pea Island National Wildlife Refuge

AGENCY: Fish and Wildlife Service, Interior.

ACTION: Notice of availability of the Final Comprehensive Conservation Plan and Finding of No Significant Impact for Pea Island National Wildlife Refuge in Dare County, North Carolina.

SUMMARY: The Fish and Wildlife Service announces that a Final Comprehensive Conservation Plan and Finding of No Significant Impact for Pea Island National Wildlife Refuge are available for distribution. The plan was prepared pursuant to the National Wildlife Refuge System Improvement Act of 1997 and in accordance with the National Environmental Policy Act of 1969. It describes how the refuge will be managed for the next 15 years. The compatibility determinations for recreational hunting, fishing, wildlife observation, wildlife photography, and environmental education and interpretation are also available within the plan.

ADDRESSES: A copy of the plan may be obtained by writing to: Bonnie Strawser, P.O. Box 1969, Manteo, North Carolina 27954, or by electronic mail to: bonnie_strawser@fw.gov. The plan may also be accessed and downloaded from the Service Web site http://southeast.fws.gov/planning/.

SUPPLEMENTARY INFORMATION: The availability of the Draft Comprehensive Conservation Plan and Environmental Assessment for a 30-day public review and comment period was announced in the Federal Register on February 6, 2006 (71 FR 6089). The draft plan and environmental assessment identified and evaluated five alternatives for managing the refuge over the next 15 years. Based on the environmental assessment and the comments received, the Service adopted Alternative 2 as its preferred Alternative. This alternative was considered to be the most effective for meeting the purposes of the refuge and the mission of the National Wildlife Refuge System. Under this alternative, the refuge will continue to manage very intensively the water levels of the impoundments and the vegetation to create optimum habitat for migrating waterfowl, shorebirds, wading birds, and aquatic organisms. The refuge will continue to allow five of the six priority public uses of the Refuge System, as identified in the National Wildlife Refuge System Improvement Act of 1997. These uses are: fishing, wildlife observation, wildlife photography, and environmental education and interpretation.

Pea Island National Wildlife Refuge, in northeastern North Carolina, consists of approximately 5,800 acres of ocean beach, barrier dunes, salt marshes, fresh and brackish water ponds and impoundments, as well as tidal creeks and bays. These habitats support a variety of wildlife species including waterfowl, shorebirds, wading birds, sea turtles, and neotropical migratory songbirds.

Authority: This notice is published under the authority of the National Wildlife Refuge System Improvement Act of 1997, Public Law 105-57.

Dated: May 3, 2006.
Cynthia K. Dohner,
Acting Regional Director.

Editorial Note: This document was received at the Office of the Federal Register on October 23, 2006.

[FR Doc. 06-8897 Filed 10-25-06: 8:45 am]

BILLING CODE 4310-55-M